FEDERAL COMMUNICATIONS COMMISSION

Privacy Act System of Records

AGENCY: Federal Communications Commission (FCC or Commission).

ACTION: Notice; one new Privacy Act system(s) of records.

SUMMARY: Pursuant to subsection (e)(4) of the Privacy Act of 1974, as amended (Privacy Act), 5 U.S.C. 552a, the FCC proposes to add one new system of records, FCC/PSHSB-2, “PSHSB Contact Database.” The FCC's Public Safety and Homeland Security Bureau (PSHSB or Bureau) will use the information contained in FCC/PSHSB-2, “PSHSB Contact Database,” to store the personally identifiable information (PII) that individuals may submit voluntarily via one or more of the PSHSB's customer comment formats:

PSHSB's (electronic) Web page Comment Card (Contact Us) at:

http://www.fcc.gov/pshs/contactus.html for those who wish to submit comments to PSHSB;

PSHSB's (electronic) Summit Comment Card (Feedback):

http://volta.fcc.gov:9090/pshs/summits and http://www.fcc.gov/pshs/event-registration2.html for those who participate in PSHSB's public events, such as summits, conferences, forums, expos, lectures, etc., and wish to submit comments;

PSHSB's (electronic) Event Registration Form (Event Registration):

http://www.fcc.gov/pshs/event-registration.html and http://www.fcc.gov/pshs/event-registration2.html for those who wish to register for PSHSB events online;

PSHSB's (electronic) Photo Safety Contest:

http://www.fcc.gov/pshs/photo-project-and-contest.html for those who wish to submit a photo entry for PSHSB's monthly contest;

PSHSB's (electronic) Network Outage Reporting System (NORS):

http://www.fcc/gov/pshs/services/cip/nors/nors.html for those who submit questions to PSHSB regarding NORS content; and/or

PSHSB's (paper) business card collections, whose information is transferred into the PSHSB's (electronic) Contact Database, and the business card is then destroyed.

These formats provide a means by which PSHSB receives feed-back as part of PSHSB's public relations and outreach activities.

DATES: In accordance with 5 U.S.C. 552a(e)(4) and (e)(11) of the Privacy Act, any interested person may submit written comments concerning the new system of records on or before February 9, 2012. The Administrator, Office of Information and Regulatory Affairs (OIRA), Office of Management and Budget (OMB), which has oversight responsibility under the Privacy Act to review the system of records, and Congress may submit comments on or before February 21, 2012. The proposed new system of records shall become effective on February 21, 2012 unless the FCC receives comments that require a contrary determination. The Commission will publish a document in the Federal Register notifying the public if any changes are necessary. As required by 5 U.S.C. 552a(r) of the Privacy Act, the FCC is submitting reports on this proposed new system to OMB and Congress.

ADDRESSES: Address comments to Leslie F. Smith, Privacy Analyst, Performance Evaluation and Records Management (PERM), Room 1-C216, Federal Communications Commission (FCC), 445 12th Street SW., Washington, DC 20554, or via the Internet at Leslie.Smith@fcc.gov.

FOR FURTHER INFORMATION CONTACT: Leslie F. Smith, Performance Evaluation and Records Management (PERM), Room 1-C216, Federal Communications Commission (FCC), 445 12th Street SW., Washington, DC 20554, (202) 418-0217, or via the Internet at Leslie.Smith@fcc.gov.

SUPPLEMENTARY INFORMATION: As required by the Privacy Act of 1974, as amended, 5 U.S.C. 552a(e)(4) and (e)(11), this document sets forth notice of the proposed new system of records to be maintained by the FCC. This notice is a summary of the more detailed information about the proposed new system of records, which may be obtained or viewed pursuant to the contact and location information given above in the ADDRESSES section. The purpose for adding this new system of records, FCC/PSHSB-2, “PSHSB Contact Database,” is to store the personally identifiable information (PII) that individuals may submit voluntarily via one or more of these customer comment formats:

PSHSB's (electronic) Web page Comment Card (Contact Us) at:

http://volta.fcc.gov:9090/pshs/contactus.html for those who wish to submit comments to PSHSB;

PSHSB's (electronic) Summit Comment Card (Feedback):

http://www.fcc.gov/pshs/summits/ and http://www.fcc.gov/pshs/event-registration2.html for those who participate in PSHSB's public events, such as summits, conferences, forums, expos, lectures, etc., and wish to submit comments;

PSHSB's (electronic) Event Registration Form (Event Registration):

http://www.fcc.gov/pshs/event-registration.html and http://www.fcc.gov/pshs/event-registration2.html for those who wish to register for PSHSB events online;

PSHSB's (electronic) Photo Safety Contest:

http://www.fcc.gov/pshs/photo-project-and-contest.html for those who wish to submit a photo entry for PSHSB's monthly contest;

PSHSB's (electronic) Network Outage Reporting System (NORS):

http://www.fcc/gov/pshs/services/cip/nors/nors.html for those who submit questions to PSHSB regarding NORS content; and/or

PSHSB's (paper) business card collections, whose information is transferred into PSHSB's (electronic) Contact Database, and the business card is then destroyed.

These formats provide a means by which PSHSB receives feed-back as part of PSHSB's public relations and outreach activities.

This notice meets the requirement documenting the proposed new system of records that is to be added to the systems of records that the FCC maintains, and provides the public, OMB, and Congress with an opportunity to comment.

FCC/PSHSB-2

SYSTEM NAME:

PSHSB Contact Database.

SECURITY CLASSIFICATION:

The FCC's Security Operations Center (SOC) has not assigned a security classification to this system of records.

SYSTEM LOCATION:

Public Service and Homeland Security Bureau (PSHSB), Federal Communications Commission (FCC), 445 12th Street SW., Washington, DC 20554.

CATEGORIES OF INDIVIDUALS COVERED BY THE SYSTEM:

Individuals from the public-at-large and the public safety community.

CATEGORIES OF RECORDS IN THE SYSTEM:

The categories of records in this information system include the contact information in the PSHSB Contact Database that individuals have provided with their comments or messages, which includes one or more of the following, depending upon PSHSB requirements:

1. Personal contact information, including but not limited to, individual's name, personal cell phone number(s), home telephone number(s), business telephone number(s), personal and professional email address(es), personal and professional fax number(s), IP address, business and home mailing address, etc.; and

2. Job-related data, including but not limited to:

(a) Type(s) of organization(s): Title, academia, association/institution, authorities, college/university, boards, commissions, councils, legislative, military, non-for-profit organization(s), private sector, business(es), research and development (R&D), training facilities; and

(b) Government(s): City, county, federal, foreign, state, tribal; and organization affiliation, i.e., such as 9-1-1 Services, Public Safety Answering Points (PSAPs), Emergency Alert System (EAS), first responders, health care sector, persons with disabilities, and spectrum. e.g., spectrum authorizations, spectrum management, spectrum enforcement.

AUTHORITY FOR MAINTENANCE OF THE SYSTEM:

Sec. 151, 152, 155, 257, 303 of the Communications Act of 1934, as amended, 47 U.S.C. 151, 152, 155.

PURPOSE(S):

The FCC's PSHSB Contact Database information system stores the personally identifiable information (PII) that individuals may submit voluntarily via one or more of these customer comment formats:

(a) PSHSB's (electronic) Web page Comment Card (Contact Us) at: http://www.fcc.gov/pshs/contactus.html for those who wish to submit comments to PSHSB;

(b) PSHSB's (electronic) Summit Comment Card (Feedback): http://volta.fcc.gov:9090/pshs/summits/ and http://www.fcc.gov/pshs/event-registration2.html for those who participate in PSHSB's public events, such as summits, conferences, forums, expos, lectures, etc., and wish to submit comments;

(c) PSHSB's (electronic) Event Registration Form (Event Registration): http://www.fcc.gov/pshs/event-registration.html for those who wish to register for PSHSB events online;

(d) PSHSB's (electronic) Photo Safety Contest: http://www.fcc.gov/pshs/photo-project-and-contest.html for those who wish to submit a photo entry for PSHSB's monthly contest;

(e) PSHSB's (electronic) Network Outage Reporting System (NORS): http://www.fcc/gov/pshs/services/cip/nors/nors.html for those who submit questions to PSHSB regarding NORS content; and/or

(f) PSHSB's (paper) business card collections, whose information is transferred into PSHSB's (electronic) Contact Database, and the business card is then destroyed.

These formats provide a means by which PSHSB receives feed-back as part of PSHSB's public relations and outreach activities.

ROUTINE USES OF RECORDS MAINTAINED IN THE SYSTEM, INCLUDING CATEGORIES OF USERS AND THE PURPOSES OF SUCH USES:

Information about individuals in this system of records may routinely be disclosed under the following conditions:

1. Congressional Inquiries—When requested by a Congressional office in response to an inquiry by an individual made to the Congressional office for the individual's own records;

2. Government-wide Program Management and Oversight—When requested by the National Archives and Records Administration (NARA), the General Services Administration (GSA), and/or the Government Accountability Office (GAO) for the purpose of records management inspections conducted under authority of 44 U.S.C. 2904 and 2906; when the U.S. Department of Justice (DOJ) is contacted in order to obtain that department's advice regarding disclosure obligations under the Freedom of Information Act (FOIA); or when the Office of Management and Budget (OMB) is contacted in order to obtain that office's advice regarding obligations under the Privacy Act;

3. Program Partners (public safety community)—A record from this system may be used as part of the PSHSB's statistical reporting and/or summaries of the comments that the Bureau provides to first responders such as the Red Cross, Association of Public Communications Officials (APCO), National Emergency Number Association (NENA), Department of Homeland Security (DHS), and other federal partners, law enforcement agencies, and medical organizations, etc., which have participated in PSHSB summit conferences, and who may have expressed interest in such reports and/or comment summaries.

4. Adjudication and Litigation—Where after careful review, the Agency determines that the records are both relevant and necessary to litigation and the use of such records is deemed by the Agency to be for a purpose that is compatible with the purpose for which the Agency collected the records, these records may be used by a court or adjudicative body in a proceeding when: (a) The Agency or any component thereof; or (b) any employee of the Agency in his or her official capacity; or (c) any employee of the Agency in his or her individual capacity where the Agency has agreed to represent the employee; or (d) the United States Government is a party to litigation or has an interest in such litigation;

5. Law Enforcement and Investigation—Where there is an indication of a violation or potential violation of a statute, regulation, rule, or order, records from this system may be shared with appropriate federal, state, or local authorities either for purposes of obtaining additional information relevant to a FCC decision or for referring the record for investigation, enforcement, or prosecution by another agency; and

6. Breach Notification—A record from this system may be disclosed to appropriate agencies, entities, and persons when (1) the Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm; and

7. Public Access—Information pertaining to these PSHSB outreach activities is available for public inspection via the Internet at http://www.fcc.gov/psheb/. PSHSB may redact any personally identifiable information (PII) or other sensitive information at the request of the individual whose information is being posted.

In each of these cases, the FCC will determine whether disclosure of the records is compatible with the purpose(s) for which the records were collected.

DISCLOSURE TO CONSUMER REPORTING AGENCIES:

None.

POLICIES AND PRACTICES FOR STORING, RETRIEVING, ACCESSING, RETAINING, AND DISPOSING OF RECORDS IN THE SYSTEM: STORAGE:

The information in this system includes electronic comment records, files, and data that are maintained in the FCC's computer network databases; and paper business cards are immediately destroyed after the information is transferred into the PSHSB's (electronic) Contact Database.

RETRIEVABILITY:

The information in the paper business cards is immediately transferred to the PSHSB (electronic) Contact Database, and any information can then be retrieved by the individual's personal contact information, and the individual's job-related data.

Information in the PSHSB Contact Database information system's electronic databases can be retrieved by the individual's personal contact information, and the individual's job-related data.

SAFEGUARDS:

The information on paper business cards, which are collected by PSHSB personnel, is immediately transferred to the PSHSB (electronic) Contact Database and the paper cards are then destroyed soon after.

The electronic records, data, and files are maintained in the FCC computer network databases. Access to the information in the electronic files is restricted to authorized PSHSB supervisors and staff. Authorized staff and contractors in the FCC's Information Technology Center (ITC), who maintain these computer databases, also have access to the electronic files. Other FCC employees and contractors may be granted access on a “need-to-know” basis. The FCC's computer network databases are protected by the FCC's security protocols, which include controlled access, passwords, and other security features. Information resident on the database servers is backed-up routinely onto magnetic media. Back-up tapes are stored on-site and at a secured, off-site location.

RETENTION AND DISPOSAL:

The information on the paper business cards, which are collected by PSHSB personnel, is immediately transferred to the PSHSB (electronic) Contact Database, and the paper cards are then destroyed soon after.

All information that is collected via the electronic Web sites and/or transferred (from paper business cards) to these PSHSB electronic databases will be kept by the FCC until a records schedule has been approved by the National Archives and Records Administration (NARA).

SYSTEMS MANAGER(S) AND ADDRESS:

Public Safety and Homeland Security (PSHSB), Federal Communications Commission (FCC), 445 12th Street SW., Washington, DC 20554.

NOTIFICATION PROCEDURE:

Address inquiries to the Public Service and Homeland Security Bureau (PSHSB), Federal Communications Commission (FCC), 445 12th Street SW., Washington, DC 20554.

RECORD ACCESS PROCEDURES:

Address inquiries to the Public Service and Homeland Security Bureau (PSHSB), Federal Communications Commission (FCC), 445 12th Street SW., Washington, DC 20554.

CONTESTING RECORD PROCEDURES:

Address inquiries to the Public Service and Homeland Security Bureau (PSHSB), Federal Communications Commission (FCC), 445 12th Street SW., Washington, DC 20554.

RECORD SOURCE CATEGORIES:

Information in the Contact Database system is provided by individuals (general public and public safety community) who submit their comments and messages to PSHSB via PSHSB's (electronic) Web page Comment Card (Contact Us); PSHSB's (electronic) Summit Comment Card (Feedback); PSHSB's (electronic) Event Registration Form (Event Registration); PSHSB (electronic) Photo Safety Contest; PSHSB (electronic) Network Outage Reporting System (NORS); and PSHSB's (paper) business card collections; which provide the means by which PSHSB receives input and feed-back as part of the Bureau's customer relations activities.

EXEMPTIONS CLAIMED FOR THE SYSTEM:

None.

Federal Communications Commission.
Marlene H. Dortch,
Secretary, Office of the Secretary, Office of Managing Director.

[FR Doc. 2012-154 Filed 1-9-12; 8:45 am]

BILLING CODE 6712-01-P